DEPARTMENT OF TRANSPORTATION

Federal Aviation Administration

14 CFR Part 39

[Docket No. FAA-2013-0543; Directorate Identifier 2012-NM-202-AD; Amendment 39-17610; AD 2013-20-04]

RIN 2120-AA64

Airworthiness Directives; Airbus Airplanes

AGENCY: Federal Aviation Administration (FAA), Department of Transportation (DOT).

ACTION: Final rule.

SUMMARY: We are adopting a new airworthiness directive (AD) for all Airbus Model A318, A319, A320, and A321 series airplanes. This AD was prompted by a determination that certain special washers used in the bearing installation of the retraction jack anchorage fitting in the main landing gear (MLG) were incorrectly manufactured. This AD requires an inspection of the left-hand (LH) and right-hand (RH) bearing assemblies of the MLG retraction jack anchorage fitting to verify that the special washer is seated correctly, and related investigative and corrective actions if necessary. We are issuing this AD to detect and correct installation of incorrectly manufactured special washers, which could lead to a local stress concentration resulting in possible reduction of the fatigue life of the jack fitting, and consequent reduction of the structural integrity of the affected MLG.

DATES: This AD becomes effective December 5, 2013.

The Director of the Federal Register approved the incorporation by reference of certain publications listed in this AD as of December 5, 2013.

ADDRESSES: You may examine the AD on the Internet at http://www.regulations.gov/#!docketDetail;D=FAA-2013-0543; or in person at the U.S. Department of Transportation, Docket Operations, M-30, West Building Ground Floor, Room W12-140, 1200 New Jersey Avenue SE., Washington, DC.

For service information identified in this AD, contact Airbus, Airworthiness Office—EIAS, 1 Rond Point Maurice Bellonte, 31707 Blagnac Cedex, France; telephone +33 5 61 93 36 96; fax +33 5 61 93 44 51; email account.airworth-eas@airbus.com; Internet http://www.airbus.com. You may review copies of the referenced service information at the FAA, Transport Airplane Directorate, 1601 Lind Avenue SW., Renton, WA. For information on the availability of this material at the FAA, call 425-227-1221.

FOR FURTHER INFORMATION CONTACT: Sanjay Ralhan, Aerospace Engineer, International Branch, ANM-116, Transport Airplane Directorate, FAA, 1601 Lind Avenue SW., Renton, WA 98057-3356; telephone (425) 227-1405; fax (425) 227-1149.

SUPPLEMENTARY INFORMATION:

Discussion

We issued a notice of proposed rulemaking (NPRM) to amend 14 CFR part 39 to include an AD that would apply to the specified products. The NPRM published in the Federal Register on July 1, 2013 (78 FR 39190). The NPRM proposed to correct an unsafe condition for the specified products.

The European Aviation Safety Agency (EASA), which is the Technical Agent for the Member States of the European Community, has issued EASA Airworthiness Directive 2012-0223, dated October 23, 2012 (referred to after this as the Mandatory Continuing Airworthiness Information, or “the MCAI”), to correct an unsafe condition for the specified products. The MCAI states:

Airbus identified a batch of special washers, Part Number (P/N) D5725260120000 and P/N D5725664320000, which were incorrectly manufactured and delivered as spares from the supplier between October 2006 and January 2010. As a result of these manufacturing defects, the affected washers differ geometrically from the design specifications. The results of further analyses on Airbus A318, A319, A320 and A321 aeroplanes demonstrate that the affected washers could be seated incorrectly when installed on aeroplanes, which could affect the main landing gear (MLG) retraction jack anchorage fitting bearing installation.

This condition, if not detected and corrected, could lead to a local stress concentration which may reduce the fatigue life of the jack fitting, possibly reducing the structural integrity of the affected MLG.

For the reasons described above, this [EASA] AD requires a one-time detailed visual inspection of the left-hand (LH) and right-hand (RH) MLG retraction jack anchorage fitting bearing assemblies to verify that the special washer is seated correctly and, depending on findings, the accomplishment of applicable [related investigative action and] corrective actions.

The related investigative action is a detailed inspection of the jack anchorage fitting for damage, corrosion, cracks or other defects. Corrective actions include replacing the special washer with a new special washer and repairing the jack anchorage fitting if there are signs of damage, corrosion, or other defects. You may examine the MCAI in the AD docket on the Internet at http://www.regulations.gov/#!documentDetail;D=FAA-2013-0543-0003.

Comments

We gave the public the opportunity to participate in developing this AD. We considered the comment received. The commenter, Jeremy Schreck, supported the NPRM (78 FR 39190, July 1, 2013).

Conclusion

We reviewed the available data, including the comment received, and determined that air safety and the public interest require adopting this AD as proposed—except for minor editorial changes. We have determined that these minor changes:

• Are consistent with the intent that was proposed in the NPRM (78 FR 39190, July 1, 2013) for correcting the unsafe condition; and

• Do not add any additional burden upon the public than was already proposed in the NPRM (78 FR 39190, July 1, 2013).

Costs of Compliance

We estimate that this AD affects 851 airplanes of U.S. registry.

We estimate the following costs to comply with this AD:

Estimated Costs
Action | Labor cost | Parts cost | Cost per product | Cost on U.S. operators
Inspection | 3 work-hours × $85 per hour = $255 | $0 | $255 | $217,005

We estimate the following costs to do any necessary replacements that would be required based on the results of the initial inspection. We have no way of determining the number of aircraft that might need these replacements:

On-Condition Costs
Action | Labor cost | Parts cost | Cost per product
Inspection | 15 work-hours × $85 per hour = $1,275 | See the following statement | $1,275

We have received no definitive data that would enable us to provide part cost estimates for the on-condition actions specified in this AD. We have no way of determining the number of products that may need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this AD and placed it in the AD docket.

Examining the AD Docket

You may examine the MCAI in the AD docket on the Internet at http://www.regulations.gov/#!docketDetail;D=FAA-2013-0543; or in person at the Docket Operations office between 9 a.m. and 5 p.m., Monday through Friday, except Federal holidays. The AD docket contains this AD, the MCAI, the regulatory evaluation, any comments received, and other information. The street address for the Docket Operations office (telephone (800) 647-5527) is in the ADDRESSES section.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2013-20-04 Airbus: Amendment 39-17610. Docket No. FAA-2013-0543; Directorate Identifier 2012-NM-202-AD.

(a) Effective Date

This airworthiness directive (AD) becomes effective December 5, 2013.

(b) Affected ADs

None.

(c) Applicability

This AD applies to the Airbus airplanes listed in paragraphs (c)(1), (c)(2), (c)(3), and (c)(4) of this AD, certificated in any category, all manufacturer serial numbers.

(1) Model A318-111, -112, -121, and -122 airplanes.

(2) Model A319-111, -112, -113, -114, -115, -131, -132, and -133 airplanes.

(3) Model A320-111, -211, -212, -214, -231, -232, and -233 airplanes.

(4) Model A321-111, -112, -131, -211, -212, -213, -231, and -232 airplanes.

(d) Subject

Air Transport Association (ATA) of America Code 57, Wings.

(e) Reason

This AD was prompted by a determination that certain special washers used in retraction jack anchorage fitting bearing installation in the main landing gear (MLG) were incorrectly manufactured. We are issuing this AD to detect and correct installation of incorrectly manufactured special washers, which could lead to a local stress concentration resulting in possible reduction of the fatigue life of the jack fitting, and consequent reduction of the structural integrity of the affected MLG.

(f) Compliance

You are responsible for having the actions required by this AD performed within the compliance times specified, unless the actions have already been done.

(g) Detailed Inspection

Within 21,300 flight cycles after August 1, 2006, or within 30 days after the effective date of this AD, whichever occurs later: Do a detailed inspection of the left-hand (LH) and right-hand (RH) bearing assemblies of the MLG retraction jack anchorage fitting for correct installation, in accordance with the Accomplishment Instructions of Airbus Service Bulletin A320-57-1169, Revision 01, dated September 18, 2012, except as specified in paragraphs (i)(1) and (i)(2) of this AD.

Note 1 to paragraph (g) of this AD: The affected special washers having part number (P/N) D5725260120000 and P/N D5725664320000 were manufactured between October 2006 and January 2010.

(h) Related Investigative and Corrective Actions

If any special washer is found incorrectly seated during the inspection specified in paragraph (g) of this AD: Before further flight, do all applicable related investigative and corrective actions, in accordance with the Accomplishment Instructions of Airbus Service Bulletin A320-57-1169, Revision 01, dated September 18, 2012, except as specified in paragraph (i)(3) of this AD.

(i) Exceptions to Inspections and Service Information

(1) Airplanes on which Airbus Modification 39730 or Airbus Modification 150311 has been embodied in production, or on which Airbus Service Bulletin A320-57-1157 has been embodied in service, do not have to be inspected as required by paragraph (g) of this AD, unless a special washer having P/N D5725260120000 or P/N D5725664320000 has been installed since the airplane's first flight, or since modification as specified in Airbus Service Bulletin A320-57-1157, as applicable. A review of airplane maintenance records is acceptable to make this determination if the part numbers of the special washers and modification status can be conclusively determined from that review.

(2) Bearing assemblies for the MLG retraction jack anchorage fitting on which no special washer replacement has been accomplished after August 1, 2006; and bearing assemblies for the MLG retraction jack anchorage fitting on which a special washer replacement has been accomplished as specified in Task 57-26-13-400-001-A, Installation of the Bearing Assembly of the Forward Pintle Pin; Task 57-26-13-400-002-A, Installation of the Bearing Assembly of the MLG Actuator Attachment; and Task 57-26-13-400-004-A Installation of the Bearing Seals of the MLG Actuator Bearing Assembly; of Subject 57-26-13, Attachment—Main Landing Gear, of Chapter 57, Wings, of the Airbus A318/A319/A320/A321 Aircraft Maintenance Manual (AMM), Revision 50, dated November 1, 2012; do not have to be inspected as required by paragraph (g) of this AD. A review of airplane maintenance records is acceptable to make this determination if the status can be conclusively determined from that review.

(3) Where Airbus Service Bulletin A320-57-1169, Revision 01, dated September 18, 2012, specifies to contact Airbus and apply corrective action defined by Airbus: Before further flight, repair the jack anchorage fitting using a method approved by either the Manager, International Branch, ANM-116, Transport Airplane Directorate, FAA; or the European Aviation Safety Agency (EASA) (or its delegated agent).

(j) Parts Installation Limitations

As of the effective date of this AD, no person may install, on any airplane, a special washer having P/N D5725260120000 or P/N D5725664320000, unless it is installed in accordance with the Accomplishment Instructions of Airbus Service Bulletin A320-57-1169, Revision 01, dated September 18, 2012; or in accordance with the instructions specified in the tasks identified in paragraphs (j)(1), (j)(2), and (j)(3) of this AD.

(1) Airbus Task 57-26-13-400-001-A, Installation of the Bearing Assembly of the Forward Pintle Pin, in Subject 57-26-13, Attachment—Main Landing Gear, of Chapter 57, Wings, of the Airbus A318/A319/A320/A321 Aircraft Maintenance Manual (AMM), Revision 50, dated November 1, 2012.

(2) Airbus Task 57-26-13-400-002-A, Installation of the Bearing Assembly of the MLG Actuator Attachment, in Subject 57-26-13, Attachment—Main Landing Gear, of Chapter 57, Wings, of the Airbus A318/A319/A320/A321 AMM, Revision 50, dated November 1, 2012.

(3) Airbus Task 57-26-13-400-004-A Installation of the Bearing Seals of the MLG Actuator Bearing Assembly, in Subject 57-26-13, Attachment—Main Landing Gear, of Chapter 57, Wings, of the Airbus A318/A319/A320/A321 AMM, Revision 50, dated November 1, 2012.

(k) Credit for Previous Actions

This paragraph provides credit for actions required by paragraph (g) of this AD, if those actions were performed before the effective date of this AD using Airbus Service Bulletin A320-57-1169, dated January 10, 2012, which is not incorporated by reference in this AD.

(l) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Sanjay Ralhan, Aerospace Engineer, International Branch, ANM-116, Transport Airplane Directorate, FAA, 1601 Lind Avenue SW., Renton, WA 98057-3356; telephone (425) 227-1405; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(m) Related Information

(1) Refer to Mandatory Continuing Airworthiness Information European Aviation Safety Agency Airworthiness Directive 2012-0223, dated October 23, 2012, for related information. You may examine the MCAI in the AD docket on the Internet at http://www.regulations.gov/#!documentDetail;D=FAA-2013-0543-0003.

(2) Service information identified in this AD that is not incorporated by reference may be obtained at the addresses specified in paragraphs (n)(3) and (n)(4) of this AD.

(n) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Airbus Service Bulletin A320-57-1169, Revision 01, dated September 18, 2012.

(ii) Airbus Task 57-26-13-400-001-A, Installation of the Bearing Assembly of the Forward Pintle Pin in Subject 57-26-13, of Chapter 57, Wings, of the Airbus A318/A319/A320/A321 Aircraft Maintenance Manual, Revision 50, dated November 1, 2012.

(iii) Airbus Task 57-26-13-400-002-A, Installation of the Bearing Assembly of the MLG Actuator Attachment in Subject 57-26-13, of Chapter 57, Wings, of the Airbus A318/A319/A320/A321 Aircraft Maintenance Manual, Revision 50, dated November 1, 2012.

(iv) Airbus Task 57-26-13-400-004-A, Installation of the Bearing Seals of the MLG Actuator Bearing Assembly in Subject 57-26-13, of Chapter 57, Wings, of the Airbus A318/A319/A320/A321 Aircraft Maintenance Manual, Revision 50, dated November 1, 2012.

(3) For service information identified in this AD, contact Airbus, Airworthiness Office—EIAS, 1 Rond Point Maurice Bellonte, 31707 Blagnac Cedex, France; telephone +33 5 61 93 36 96; fax +33 5 61 93 44 51; email account.airworth-eas@airbus.com; Internet http://www.airbus.com.

(4) You may review copies of the service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on September 19, 2013.
Ross Landes,
Acting Manager, Transport Airplane Directorate, Aircraft Certification Service.

[FR Doc. 2013-23905 Filed 10-30-13; 8:45 am]

BILLING CODE 4910-13-P